DEPARTMENT OF TRANSPORTATION

Office of the Secretary

Aviation Proceedings, Agreements Filed During Week Ending April 6, 2001

The following Agreements were filed with the Department of Transportation under provisions of 49 U.S.C. Sections 412 and 414. Answers may be filed within 21 days after the filing of the applications.

Docket Number: OST-2001-9322.

Date Filed: April 3, 2001.

Parties: Members of the International Air Transport Association.

Subject: PTC12 NMS-AFR 0109 dated 3 April 2001, Mail Vote 118—Resolution 010x, TC12 Mid Atlantic-Africa, Special Passenger Amending Resolution from Botswana, Intended effective date: 15 April 2001.

Docket Number: OST-2001-9323.

Date Filed: April 3, 2001.

Parties: Members of the International Air Transport Association.

Subject: PTC2 ME-AFR 0069 dated 27 March 2001, TC2 Middle East-Africa Resolutions r1-r16, Minutes—PTC2 ME-AFR 0068 dated 28 March 2001, Tables—PTC2 ME-AFR Fares 0043 dated 27 March 2001, Intended effective date: 1 May 2001.

Docket Number: OST-2001-9338.

Date Filed: April 4, 2001.

Parties: Members of the International Air Transport Association.

Subject: PTC3 0491 dated 6 April 2001, Mail Vote 112—TC3 Special Passenger Amending Resolution between Vladivostok, Russia (Asia) and Osaka, Japan, Intended effective date: 1 May 2001.

Dorothy Y. Beard,
Federal Register Liaison.

[FR Doc. 01-9582 Filed 4-17-01; 8:45 am]

BILLING CODE 4910-62-P